DEPARTMENT OF JUSTICE

Notice of Lodging of Consent Decree Under the Comprehensive Environmental Response, Compensation, and Liability Act

Notice is hereby given that on December 21, 2011, the United States lodged a proposed First Amended Consent Decree with Defendants Intel Corporation and Raytheon Company, in United States v. Intel Corporation and Raytheon Company, Civil Action No. 91-CV-20275 JW (N.D. Cal.), with respect to the Middlefield-Ellis-Whisman Superfund Site in Mountain View, California (the “MEW Site”).

On December 21, 2011, the United States and Defendants filed a joint stipulation to amend the Consent Decree that was entered by the Court on April 10, 1992. After the U.S. Environmental Protection Agency (“EPA”) had certified the completion of initial work under the Consent Decree, EPA received information indicating that the remedy set forth in EPA's Record of Decision issued on June 9, 1989, as clarified by a September 1990 Explanation of Significant Differences (“ROD”), was not protective of human health and the environment because the remedy in the ROD did not address exposure to contaminants at the MEW Site through the vapor intrusion pathway. On August 16, 2010, EPA issued an Amendment to the ROD to address the vapor intrusion pathway. The proposed First Amended Consent Decree amends the Consent Decree to include work required to implement the vapor intrusion remedy as set forth in EPA's Statement of Work for Remedial Design and Remedial Action to Address the Vapor Intrusion Pathway, which is attached as Appendix F to the First Amended Consent Decree.

The Department of Justice will receive, for a period of thirty (30) days from the date of this publication, comments relating to the First Amended Consent Decree. Comments should be addressed to the Assistant Attorney General, Environment and Natural Resources Division, and either emailed to pubcomment-ees.enrd@usdoj.gov or mailed to P.O. Box 7611, U.S. Department of Justice, Washington, DC 20044-7611, and should refer to United States v. Intel Corporation and Raytheon Company, D.J. Ref. 90-11-2-244.

The First Amended Consent Decree may be examined at U.S. EPA Region IX at 75 Hawthorne Street, San Francisco, California 94105. During the public comment period, the First Amended Consent Decree may also be examined on the following Department of Justice Web site: http://www.usdoj.gov/enrd/Consent_Decrees.html. A copy of the First Amended Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $29.25 (without appendices) or $101.75 (with appendices) (25 cents per page reproduction cost) payable to the U.S. Treasury or, if by email or fax, forward a check in that amount to the Consent Decree Library at the stated address.

Henry Friedman,
Assistant Chief, Environmental Enforcement Section, Environment and Natural Resources Division.

[FR Doc. 2011-33500 Filed 12-28-11; 8:45 am]

BILLING CODE 4410-15-P